DEPARTMENT OF HOMELAND SECURITY

Coast Guard

[Docket No. USCG-2008-0331]

Public Workshop on Marine Technology and Standards

AGENCY: Coast Guard, DHS.

ACTION: Notice of meeting.

SUMMARY: The United States Coast Guard (USCG) and the American Society of Mechanical Engineers (ASME) are sponsoring a two-day public workshop on marine technology and standards in Arlington, VA. This public workshop will provide a unique opportunity for classification societies, industry groups, standards development organizations, governments, and interested members of the public to come together for a professional exchange on topics ranging from technological impacts to the marine industry, corresponding coverage in related codes and standards, and existing government regulations.

DATES: This public workshop will be held 8 a.m. to 7:30 p.m. on Tuesday, June 3, 2008, and from 8 a.m. to 4:30 p.m. on Wednesday, June 4, 2008. This workshop is open to the public with advance registration required.

ADDRESSES: The two-day workshop will be held at the Sheraton National Hotel near the Pentagon. The hotel is located at 900 South Orme Street in Arlington, VA, approximately one mile from the Pentagon City Metro Station. The hotel's phone number is (703) 521-1900. Shuttle service to and from the hotel may be available by contacting the hotel directly at the phone number above.

FOR FURTHER INFORMATION CONTACT: For additional information about this workshop you may visit the USCG Web site at http://www.uscg.mil/marine_event or contact Mr. Wayne Lundy by telephone at (202) 372-1379 or by e-mail at Wayne.M.Lundy@uscg.mil.

SUPPLEMENTARY INFORMATION: The purpose of this workshop is to provide a technical exchange on areas of technology that impact the marine industry with corresponding coverage in related codes and standards and existing government regulations. To register for this workshop, please visit the ASME Web site: http://www.asmeconferences.org/asmeuscg08. Registration deadline is May 23, 2008. While the workshop is open to the public, space is limited due to room capacity restrictions, so we encourage you to register in advance for this event. There is no fee for registration.

Agenda of Meeting

The workshop comprises six panel sessions conducted over a two-day period on a variety of topics.

Day One—June 3, 2008

(1) Use of Compressed Natural Gas (CNG) and Liquefied Natural Gas (LNG) for ship propulsion;

(2) Emerging technologies such as bio-fuels, use of fuel cells for ship propulsion, development of high pressure composite hydrogen pressure vessels, and exhaust gas cleaning systems for ships;

(3) Importation of CNG;

Day Two—June 4, 2008

(4) Pressure vessels for human occupancy, including submersibles, diving bells, and acrylic windows;

(5) Pressure vessel and piping codes, including rewrite of ASME Section VIII-Division 2, API 570/ASME FFS-1 Fitness for Service, ASME B31.12—Code for Hydrogen Piping and Pipelines, and use of ASME Section VIII-Division 3; and

(6) Risk-based approaches and in-service examination of marine systems.

Procedural

This workshop is open to the public. Please note that the workshop may close early if all business is finished. Material presented at the workshop will be made available to the public on the USCG Web site at http://www.uscg.mil/marine_even for 30 days starting June 3. For additional information on material presented at this event, you may contact Mr. Wayne Lundy by telephone at (202) 372-1379 or by e-mail at Wayne.M.Lundy@uscg.mil. Summaries of comments made, materials presented, and lists of attendees will be available on the docket at the conclusion of the 2 day meeting. To view comments and materials, go to http://www.regulations.gov at any time, enter the docket number “USCG 2008-0331” in the Search box, and click on “Go>>.”

Information on Services for Individuals with Disabilities

For information on facilities or services for individuals With disabilities or to request special assistance at the meeting, contact Mr. Wayne Lundy at (202) 372-1379 or by e-mail at Wayne.M.Lundy@uscg.mil as soon as possible.

Dated: April 25, 2008.
J. G. Lantz,
Director of Commercial Regulations and Standards, U.S. Coast Guard.

[FR Doc. E8-10239 Filed 5-6-08; 8:45 am]

BILLING CODE 4910-15-P